DEPARTMENT OF HOMELAND SECURITY

Federal Emergency Management Agency

[Docket ID FEMA-2012-0003; Internal Agency Docket No. FEMA-B-1261]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 29, 2012.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1261, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at www.fema.gov/pdf/media/factsheets/2010/srp_fs.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Manatee County, Florida, and Incorporated Areas
Maps Available for Inspection Online at: http:www.bakeraecom.com/index.php/florida/manatee/
City of Anna Maria | City Hall, 10005 Gulf Drive, Anna Maria, FL 34216.
City of Bradenton | City Hall, 101 Old Main Street West, Bradenton, FL 34205.
City of Palmetto | City Hall, 516 8th Avenue West, Palmetto, FL 34221.
Unincorporated Areas of Manatee County | Manatee County Building and Development Services Department, 1112 Manatee Avenue West, Bradenton, FL 34205.
Ravalli County, Montana, and Incorporated Areas
Maps Available for Inspection Online at: http://www.bakeraecom.com/index.php/montana/ravalli/
City of Hamilton | 202 South 3rd Street, Hamilton, MT 59840.
City of Stevensville | 206 Buck Street, Stevensville, MT 59870.
Town of Darby | 101 East Tanner Avenue, Darby, MT 59829.
Unincorporated Areas of Ravalli County | 215 South 4th Avenue, Suite F, Hamilton, MT 59840.
Mecklenburg County, North Carolina, and Incorporated Areas
Maps Availble for Inspection Online at: http://mapserver.mecklenburgcountync.gov/fmr/
City of Charlotte | City Hall, 600 East 4th Street, Charlotte, NC 28202.
Town of Matthews | Town Hall, 232 Matthews Station Street, Matthews, NC 28105.
Town of Mint Hill | Town Hall, 7151 Matthews-Mint Hill Road, Mint Hill, NC 28277.
Town of Pineville | Town Hall, 200 Dover Street, Pineville, NC 28134.
Unincorporated Areas of Mecklenburg County | Mecklenburg County Government Center, 600 East 4th Street, Charlotte, NC 28202.
Union County, North Carolina, and Incorporated Areas
Maps Availble for Inspection Online at: http://www.ncfloodmaps.com
Town of Indian Trail | Administrative Services, 130 Blythe Drive, Indian Trail, NC 28079.
Town of Stallings | Town Hall, 315 Stallings Road, Stallings, NC 28104.
Town of Weddington | Town Hall, 1924 Weddington Road, Weddington, NC 28104.
Unincorporated Areas of Union County | Union County Office, 500 North Main Street, Monroe, NC 28112.
Village of Marvin | Village Hall, 10004 New Town Road, Marvin, NC 28173.
Town of Springfield, South Carolina
Maps Availble for Inspection Online at: http://www.dnr.sc.gov/water/flood/comaps.html
Town of Springfield | Town Hall, 1505 Georgia Street, Springfield, SC 29146.

(Catalog of Federal Domestic Assistance No. 97.022, “Flood Insurance.”)

Dated: July 12, 2012.
Sandra K. Knight,
Deputy Associate Administrator for Mitigation,Department of Homeland Security,Federal Emergency Management Agency.

[FR Doc. 2012-18529 Filed 7-27-12; 8:45 am]

BILLING CODE 9110-12-P